FEDERAL COMMUNICATIONS COMMISSION

47 CFR Part 73

[DA 00-1393; MM Docket No. 99-353; RM-9787]

Radio Broadcasting Services; Mojave, CA

AGENCY: Federal Communications Commission.

ACTION: Final rule.

SUMMARY: This document allots Channel 241A to Mojave, California, as that community's second local FM transmission service, in response to a petition for rule making filed on behalf of Linda A. Davidson. See 64 FR 73460, December 30, 1999. Although the petitioner did not file supporting comments, an expression of interest in pursuing the proposal was filed on behalf of Lazer Broadcasting Corp. Coordinates used for Channel 241A at Mojave, California, are 35-06-11 NL and 118-10-22 WL. As Mojave is located within 320 kilometers (199 miles) of the U.S.-Mexico border, concurrence of the Mexican government was requested but has not been received. As the allotment complies with the terms of the 1992 USA-Mexico FM Broadcast Agreement (“Agreement”), Channel 241A has been allotted to Mojave with an interim operating condition which may be removed once an official response from the Mexican government has been obtained.

DATES: Effective August 7, 2000. A filing window for Channel 241A at Mojave, California, will not be opened at this time. Instead, the issue of opening a filing window for this channel will be addressed by the Commission in a subsequent Order.

FOR FURTHER INFORMATION CONTACT: Nancy Joyner, Mass Media Bureau, (202) 418-2180. Questions related to the application filing process for Channel 241A at Mojave, California, should be addressed to the Audio Services Division, (202) 418-2700.

SUPPLEMENTARY INFORMATION: This is a synopsis of the Commission's Report and Order, MM Docket No. 99-353, adopted June 14, 2000, and released June 23, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under California, is amended by adding Channel 241A at Mojave.

Federal Communications Commission.
John A. Karousos,
Chief, Allocations Branch, Policy and Rules Division, Mass Media Bureau.

[FR Doc. 00-16867 Filed 7-3-00; 8:45 am]

BILLING CODE 6712-01-U